DEPARTMENT OF AGRICULTURE

Agricultural Marketing Service

[Doc. No. AMS-SC-24-0079]

Revision of Seven U.S. Grade Standards for Canned Tomato Products

AGENCY: Agricultural Marketing Service, USDA.

ACTION: Notice and request for comments.

SUMMARY: The Agricultural Marketing Service (AMS) proposes to revise seven U.S. grade standards for canned tomato products. AMS is proposing to update the color sections in the grade standards, replace the two-term grading system (dual-nomenclature) with a single term, and make editorial changes. AMS is also proposing to change the spelling of “catsup” to the more commonly used term “ketchup.”

DATES: Comments must be submitted on or before November 14, 2025.

ADDRESSES: Interested persons are invited to submit written comments to the USDA, Specialty Crops Inspection Division, 100 Riverside Parkway, Suite 101, Fredericksburg, VA 22406; fax: (540) 361-1199; or, at https://www.regulations.gov. Comments should reference the date and page number of this issue of the Federal Register. Comments will be posted without change, including any personal information provided. All comments received within the comment period will become part of the public record maintained by AMS and will be made available to the public via https://www.regulations.gov.

FOR FURTHER INFORMATION CONTACT: Dana N. White at the address above, by phone (202) 720-5021; fax (540) 361-1199; or email to Dana.White@usda.gov. Copies of the current U.S. Standards for Grades of Tomato Ketchup, U.S. Standards for Grades of Tomato Sauce, U.S. Standards for Grades of Tomato Juice, U.S. Standards for Grades of Canned Tomato Paste, U.S. Standards for Grades of Canned Tomato Puree, U.S. Standards for Grades of Canned Tomatoes, and U.S. Standards for Grades of Concentrated Tomato Juice are available on the Specialty Crops Inspection Division website at https://www.ams.usda.gov/grades-standards/vegetables. Copies of the proposed U.S. Standards for Grades of the above-mentioned canned tomato products are available at https://www.regulations.gov.

SUPPLEMENTARY INFORMATION: Section 203(c) of the Agricultural Marketing Act of 1946 (7 U.S.C. 1621-1627) as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: https://www.ams.usda.gov/grades-standards. AMS is proposing revisions to certain parts of these U.S. Standards for Grades using the procedures that appear in part 36 of title 7 of the Code of Federal Regulations (7 CFR part 36).

Background

AMS continually reviews all fruit and vegetable grade standards to ensure their usefulness to industry, modernize language, and remove duplicative terminology. AMS determined that seven grade standards require changes: U.S. Standards for Grades of Tomato Catsup, U.S. Standards for Grades of Tomato Sauce, U.S. Standards for Grades of Tomato Juice, U.S. Standards for Grades of Canned Tomato Paste, U.S. Standards for Grades of Canned Tomato Puree, U.S. Standards for Grades of Canned Tomatoes, and U.S. Standards for Grades of Concentrated Tomato Juice. The color section of these grade standards references Munsell color discs that are no longer used to determine color. The color sections would be updated to remove specific references to the Munsell color discs and to instead reference the USDA color chip information (A1, A2, C1, and C2) and use guidance. Color chip information is available on the Listing of Fresh and Processed Commodity Visual Aids on the AMS website at: https://www.ams.usda.gov/grades-standards/how-purchase-equipment-and-visual-aids. The color sections would note that the availability and procedure for using USDA color standards can be obtained by contacting USDA at the website above. AMS is also proposing to remove specific addresses for licensed suppliers of color standards. Contact information for current licensed suppliers is available in the Fresh and Processed Equipment Catalog at the website above.

More recently developed grade standards use a single term, such as “U.S. Grade A” or “U.S. Grade B,” to describe each level of quality within a grade standard. Older grade standards used dual nomenclature, such as “U.S. Grade A or U.S. Fancy,” “U.S. Grade B or U.S. Extra Standard,” and “U.S. Grade C or U.S. Standard,” to describe the same level of quality. The terms “U.S. Fancy,” “U.S. Extra Standard,” and “U.S. Standard” would be removed and the terms “U.S. Grade A,” “U.S. Grade B,” and “U.S. Grade C” would be used exclusively.

AMS is proposing to add a table to section 52.5170 of the U.S. Standards for Grades of Canned Tomatoes named “Table II Low Individual Drained Weights for Canned Tomatoes and Stewed Tomatoes, All Grades, All Styles (ounces).” This table will show the individual drained weights allowed for each level of quality and container size.

Finally, AMS is proposing to make editorial changes, including inserting section headings and changing “catsup” to the more commonly used term “ketchup” to align with the Food and Drug Administration's standard of identity and commercial practices.

The following table summarizes the changes currently under consideration by AMS.

U.S. standards for grades of canned tomato products | Effective date | Proposed color section revisions | Other proposed revisions
Tomato Catsup | 02/26/92 | Remove text under section 52.2106, “Color,” pertaining to the use of the Munsell color discs. Add information about the USDA Color Standards for Tomato Products for determining color | Add section headings from the previous version of the standards, which had been erroneously removed. Change “catsup” to “ketchup” throughout the standard.
Tomato Sauce | 11/17/94 | Remove text under section 52.2372, “Color,” pertaining to the use of the Munsell color discs. Add information about the USDA Color Standards for Tomato Products for determining color | Add section headings from the previous version of the standards, which had been erroneously removed. Revise section 52.2371, “Product description,” to highlight the refractive index criteria and include the low individual sample allowance. Revise table 1 of section 52.2375, column “U.S. Grade B” Reasonably Good Consistency to align with the definition, “3.0 to less than 4.0 or more than 12.0 but not more than 15.0.”
Tomato Juice | 07/22/85 | Remove text under section 52.3622, “Definitions of terms,” pertaining to the use of the Munsell color discs. Add information about the USDA Color Standards for Tomato Products for determining color. Remove Munsell address as a contact to order the tomato color standards | Add section headings from the previous version of the standards, which had been erroneously removed.
Canned Tomato Paste | 09/19/77 | Remove text under section 52.5048, “Color,” pertaining to the use of the Munsell color discs. Add information about the USDA Color Standards for Tomato Products for determining color. Remove Munsell address as a contact to order the tomato color standards | Add section headings from the previous version of the standards, which had been erroneously removed. Replace two-term grading language (dual nomenclature) with a single term to describe each quality level with the grade statements. For example, the term “U.S. Grade A or U.S. Fancy” would be revised to use the term “U.S. Grade A” under section 52.5044.
Canned Tomato Puree (Tomato Pulp) | 05/01/78 | Remove text under section 52.5088, “Color,” pertaining to the use of the Munsell color discs. Add information about the USDA Color Standards for Tomato Products for determining color. Remove Munsell address as a contact to order the tomato color standards | Add section headings from the previous version of the standards, which had been erroneously removed.
Canned Tomatoes | 04/13/90 | Remove text under section 52.5164, “Definitions of terms,” pertaining to the use of the Munsell color discs. Add information about the USDA Color Standards for Canned Tomatoes for determining color | Add section headings from the previous version of the standard, which had been erroneously removed. Revise section 52.5166, including changing the title from “Minimum drained weight averages” to “Drained weight” and reorganizing content into a better order. Reorganize section 52.5166 for clarity, including moving sections. Add a new table in section 52.5170 to show the low individual drained weights and re-number all subsequent tables.
Concentrated Tomato Juice | 02/25/70 | Remove text under section 52.5205 pertaining to the use of the Munsell color discs. Add information about the USDA Color Standards for Tomato Products for determining color | Add section headings from the previous version of the standards, which had been erroneously removed. Replace two-term grading language (dual nomenclature) with a single term to describe each quality level with the grade statements. For example, the term “U.S. Grade A or U.S. Fancy” would be revised to use the term “U.S. Grade A” under section 52.5202.

The proposed revisions to these grade standards would provide a common language for trade and better reflect the current marketing of fruits and vegetables.

A 60-day period is provided for interested persons to submit comments on the proposed grade standards. Copies of the proposed revised standards are available at https://www.regulations.gov. After the 60-day comment period, AMS will proceed in accordance with 7 CFR 36.3(a)(1) through (3).

Authority: 7 U.S.C. 1621-1627.

Erin Morris,
Administrator, Agricultural Marketing Service.

[FR Doc. 2025-17772 Filed 9-12-25; 8:45 am]

BILLING CODE P